DEPARTMENT OF LABOR

Mine Safety and Health Administration

Petition for Modification of Application of Existing Mandatory Safety Standard

AGENCY: Mine Safety and Health Administration, Labor.

ACTION: Notice.

SUMMARY: This notice is a summary of a petition for modification submitted to the Mine Safety and Health Administration (MSHA) by the parties listed below.

DATES: All comments on the petition must be received by MSHA's Office of Standards, Regulations, and Variances on or before May 14, 2018.

ADDRESSES: You may submit your comments, identified by “docket number” on the subject line, by any of the following methods:

1. Email: zzMSHA-comments@dol.gov. Include the docket number of the petition in the subject line of the message.

2. Facsimile: 202-693-9441.

3. Regular Mail or Hand Delivery: MSHA, Office of Standards, Regulations, and Variances, 201 12th Street South, Suite 4E401, Arlington, Virginia 22202-5452, Attention: Sheila McConnell, Director, Office of Standards, Regulations, and Variances. Persons delivering documents are required to check in at the receptionist's desk in Suite 4E401. Individuals may inspect copies of the petition and comments during normal business hours at the address listed above.

MSHA will consider only comments postmarked by the U.S. Postal Service or proof of delivery from another delivery service such as UPS or Federal Express on or before the deadline for comments.

FOR FURTHER INFORMATION CONTACT: Barbara Barron, Office of Standards, Regulations, and Variances at 202-693-9447 (Voice), barron.barbara@dol.gov (email), or 202-693-9441 (Facsimile). [These are not toll-free numbers.]

SUPPLEMENTARY INFORMATION: Section 101(c) of the Federal Mine Safety and Health Act of 1977 and Title 30 of the Code of Federal Regulations Part 44 govern the application, processing, and disposition of petitions for modification.

I. Background

Section 101(c) of the Federal Mine Safety and Health Act of 1977 (Mine Act) allows the mine operator or representative of miners to file a petition to modify the application of any mandatory safety standard to a coal or other mine if the Secretary of Labor (Secretary) determines that:

1. An alternative method of achieving the result of such standard exists which will at all times guarantee no less than the same measure of protection afforded the miners of such mine by such standard; or

2. That the application of such standard to such mine will result in a diminution of safety to the miners in such mine.

In addition, the regulations at 30 CFR 44.10 and 44.11 establish the requirements and procedures for filing petitions for modification.

II. Petition for Modification

Docket Number: M-2018-003-M.

Petitioner: Ciner Wyoming LLC, P.O. Box 513, 254 County Road 4-6, Green River, Wyoming 82935.

Mine: Big Island Mine, MSHA I.D. No. 48-00154, located in Sweetwater County, Wyoming.

Regulation Affected: 30 CFR 57.22305 (Approved equipment (III mines)).

Modification Request: The petitioner requests a modification of the existing standard to establish an alternative method. The petitioner alleges that application of the standards as currently enforced will result in a diminution of safety to miners.

The petitioner states that:

(1) Mining operations at the Big Island Mine do not involve pillar recovery workings, longwall faces, or short-wall faces. Thus, at the Big Island Mine, 30 CFR 57.22305 prohibits the use of nonpermissible equipment “in or beyond the last open crosscut.” The term “last open crosscut” is not defined by statue or regulation.

(2) The petitioner has formulated a methodology, set forth in this petition that provides operational certainty regarding the location of the last open crosscut and corresponding permissibility boundary for the petitioner's mining operation unique to the Big Island Mine, and minimizes the employees' exposure to red-zone hazards.

(3) Though the petitioner contends that its current mining methodology is compliant with all aspects of 30 CFR 57.22305, the petitioner proposes this alternative methodology to provide operational certainty for the location of the permissibility boundary, and in return, to ensure that the requirements of 30 CFR 57.22305 are satisfied.

In addition, the alternative methodology eliminates unnecessary movement of the continuous miner, which in turn reduces mine personnel exposure to red-zone hazards

(4) The petitioner proposes the following alternative method:

(i) The Big Island Mine is a Category III mine as defined in 30 CFR 57.22003(a)(3).

(ii) Methane is not capable of forming explosive mixtures at levels below 5 percent in an environment with normal atmospheric levels of approximately 20 percent oxygen as defined in 30 CFR 57.22003(a)(3).

(iii) The quantity of air coursed through continuous miner sections meets or exceeds the 9,000 cubic feet per minute requirement as defined in 30 CFR 57.22213.

(iv) When the continuous miner is cutting ore, nonpermissible equipment will be staged outby the nonpermissible equipment staging boundary (NPESB).

(v) The continuous miner is equipped with a methane monitor as defined in 30 CFR 57.22308.

(vi) Pursuant to 30 CFR 57.22308, all methane monitors will (1) give warning at 1.0 percent methane; (2) automatically de-energize electrical equipment, except power to monitoring equipment determined by MSHA to be intrinsically safe under 30 CFR part 18 and prevent starting such equipment when methane levels reach 1.5 percent; and (3) automatically de-energize electrical equipment when power to a sensor is interrupted.

(vii) If the presence of methane is detected at or above 1.0 percent, immediate action will be taken to shut down equipment in the affected area, and ventilation changes will be made to reduce the methane, pursuant to 30 CFR 57.22234.

(viii) Nonpermissible equipment may be operated inby the NPESB to service the continuous miner (including loading bolts) only when the continuous miner is not cutting ore. A competent person, as defined in 30 CFR 57.22002, will monitor for methane immediately before and during use of nonpermissible equipment to service the continuous miner. The competent person will utilize an approved testing device pursuant to 30 CFR 57.22227(a). Methane monitoring devices used for measuring methane, other gases, and contaminants in mine air will be approved by MSHA under applicable requirements of 30 CFR parts 18, 21, 22, 23, 27, and 29. Such devices will be maintained in accordance with the manufacturers' instructions, or an equivalent maintenance and calibration procedure.

(ix) When operating nonpermissible equipment inby the NPESB, such equipment will not travel inby the permissibility boundary (PB).

(x) Competent personnel engaged in the use of nonpermissible equipment will be properly trained to recognize the hazards and limitations associated with the use of nonpermissible equipment.

(xi) As the continuous miner advances a room in a development sequence, the petitioner will install foam curtains on the crosscut outby the last open crosscut, defined herein as the last open crosscut perpendicular to the direction of the room being mined and at the boundary of intake and return air systems. Guidance for the application of foam to installed curtains will be provided.

(5) The requested modification in this petition would eliminate undue risk of injury caused by retreating the continuous miner for purposes of conducting maintenance, including the elimination of pinch points, red zones, manual lifting, and the carrying and hauling of bits, roof support materials and repair components. Nonpermissible equipment will be able to service the continuous miner near its cutting location, greatly reducing the risks associated with these tasks, with a concomitant risk from methane ignition.

The petitioner asserts that application of the existing standard would result in a diminution of safety to the miners and that the proposed alternative method will guarantee that no less than the same measure of protection is afforded the miners at the Big Island Mine.

Docket Number: M-2018-005-C.

Petitioner: Hamilton County Coal, LLC, 18033 County Road 500E, Dahlgren, Illinois 62828-4294.

Mine: Hamilton Mine No. 1, MSHA I.D. No. 11-03203, located in Hamilton County, Illinois.

Regulation Affected: 30 CFR 75.503 (Permissible electric face equipment; maintenance) and 30 CFR 18.35 (Portable (trailing) cables and cords).

Modification Request: The petitioner requests a modification of the existing standard to permit the maximum length of trailing cables to be increased to 1,200 feet for supplying power to continuous mining machines, roof bolting machines, section ventilation fans, and shuttle cars.

The petitioner states that:

(1) Petitioner is developing longwall panels as part of a continuing mining cycle. The development panels consist of a multiple entry system with crosscut centers not to exceed a maximum of 250 feet to improve roof and abutment pressure control during longwall mining. Ventilation is also improved by limiting the number of stoppings, which have a built-in ventilation pressure loss factor.

(2) The trailing cables will apply to 3/0 American Wire Gauge (AWG) three phase 995-volt Alternating Current (AC) continuous mining machine, No. 2 AWG three phase 995-volt AC roof bolting machines, No. 2 AWG three phase 480-volt AC roof bolting machines, No. 2 AWG three phase 995-volt AC section ventilation fans, and 2/0 AWG 600-volt Direct Current (DC) shuttle cars.

(3) The trailing cables for 995-volt AC continuous mining machines will not be smaller than 3/0 AWG.

(4) The trailing cables for the 995-volt AC roof bolting machines will not be smaller than No. 2 AWG.

(5) The trailing cables for 995-volt AC section ventilation fans will not be smaller than No. 2 AWG.

(6) The trailing cables for 600-volt DC shuttle cars will not be smaller than 2/0 AWG.

(7) All circuit breakers used to protect No. 2 AWG 995-volt trailing cables exceeding 700 feet in length will have instantaneous trip units calibrated to trip at 800 amperes. The trip setting of the circuit breakers will be sealed to ensure that the setting on these breakers cannot be changed, and these breakers will have permanent legible labels. Each label will identify these circuit breakers as being suitable for protecting the No. 2 AWG cables.

(8) Replacement circuit breakers and/or instantaneous trip units used to protect the No. 2 AWG 995-volt trailing cables will be calibrated to trip at 800 amperes and this setting will be sealed.

(9) All circuit breakers used to protect No. 2 AWG 480-volt trailing cables exceeding 700 feet in length will have instantaneous trip units calibrated to trip at 450 amperes. The trip setting of these circuit breakers will be sealed to ensure that the settings on these breakers cannot be changed, and these breakers will have permanent, legible labels. Each label will identify the circuit breaker as being suitable for protecting the No. 2 AWG cables.

(10) Replacement circuit breakers and/or instantaneous trip units, used to protect the No. 2 AWG 480-volt trailing cables will be calibrated to trip at 450 amperes, and this setting will be sealed.

(11) All circuit breakers used to protect 3/0 AWG 995-volt trailing cables exceeding 900 feet in length will have instantaneous trip units to trip at 1,830 amperes. The trip setting of these circuit breakers will be sealed to ensure that the settings on these breakers cannot be changed, and these breakers will have permanent legible labels. Each label will identify the circuit breaker as being suitable for protecting the 3/0 AWG cable.

(12) Replacement circuit breakers and/or instantaneous trip units used to protect the 3/0 AWG 995-volt trailing cables will be calibrated to trip at 1,830 amperes, and this setting will be sealed.

(13) All circuit breakers used to protect 2/0 AWG 600-volt DC trailing cables exceeding 850 feet in length will have instantaneous trip units to trip at 900 amperes. The trip setting of these circuit breakers will be sealed to ensure that the settings on these breakers cannot be changed, and these breakers will have permanent legible labels. Each label shall identify the circuit breaker as being suitable for protecting the 2/0 AWG cable.

(14) Replacement circuit breakers and/or instantaneous trip units used to protect the 2/0 AWG 600-volt trailing cables will be calibrated to trip at 900 amperes and this setting will be sealed.

(15) All components that provide short circuit protection will have sufficient interruption rating in accordance with the maximum calculated fault currents available.

(16) During each production day, persons designated by the operator will visually examine the trailing cables to ensure that the cables are in safe operation condition and that the instantaneous settings of the specially calibrated breakers do not have seals or locks removed and that they do not exceed the stipulated settings.

(17) Any trailing cable that is not in safe operating condition will be removed from service immediately and repaired or replaced.

(18) Each splice or repair in the trailing cable will be made in a workmanlike manner and in accordance with the instructions of the manufacturer of the splice or repair materials. The splice or repair will comply with 30 CFR 75.603 and 75.604 requirements. The outer jacket of each splice or repair will be vulcanized with flame-resistant material or made with material that has been accepted by MSHA as flame-resistant.

(19) Permanent warning labels will be installed and maintained on the cover(s) of the power center identifying the location of each sealed or locked short-circuit protective device. These labels will warn miners not change or alter these short-circuit settings and any sign of tempering with the specially calibrated breaker or trip unit will require the replacement of the circuit breaker with another calibrated, sealed and/or locked trip unit.

(20) In the event the mining method or operating procedures cause or contribute to the damage of any trailing cable, the cable will be removed from service immediately and repaired or replaced. Also, additional precautions will be taken to ensure that haulage roads and trailing cable storage areas are situated to minimize contact of the trailing cable with continuous miners, loading machines, shuttle cars, roof bolters, and section ventilation fans. Moreover, trailing cable anchors on cable reel equipment will be of a permanent type that minimizes the tensile forces on the trailing cables.

(21) Where the method of mining would require that trailing cables cross roadways or haulage ways, the cable will be securely supported from the mine roof or a substantial bridge for equipment to pass over the cables will be provided and used.

(22) Excessive cable will be stored behind the anchor(s) on equipment that use cable reels to prevent cables from overheating.

(23) The petitioner's alternative method will not be implemented until all miners who have been designated to examine the integrity of seals or locks and to verify the short-circuit settings and proper procedure for examining trailing cables for defects and damage have received the training specified above.

(24) The equipment listed in this petition will comply with all other applicable requirements of the Federal Mine Safety and Health Act of 1977 and the applicable requirements of 30 CFR part 75.

(25) Within 60 days after this petition is final, the petitioner will submit proposed revisions for its approved 30 CFR part 48 training plan to the District Manager. The proposed revisions will specify task training for miners designated to examine the trailing cables for safe operation condition and verify that the short circuit settings of the circuit interrupting device(s) that protect the affected trailing cables do not exceed the settings specified above. The training will include the following:

a. Mining methods and operating procedures that will protect the trailing cables against damage.

b. The proper procedure for examining the trailing cable to ensure that the cables are in safe operating condition by a visual inspection of the entire cable, observing the insulation, the integrity of the splices, and nicks and abrasions.

c. The hazards of setting the instantaneous circuit breakers too high to adequately protect the trailing cables.

d. How to verify that the circuit interrupting device(s) protecting the trailing cables are properly set and maintained.

e. How to protect the trailing cables against damage caused by overheating due to excessive cable stored on the cable reel(s) and adjusting stored cable behind the cable anchor(s) as tramming distances change. The procedures as specified in 30 CFR 48.3 for approval of proposed revisions to already approved training plans will apply.

The petitioner asserts that the proposed alternative method will at all times guarantee no less than the same measure of protection afforded by the existing standard.

Sheila McConnell,
Director, Office of Standards, Regulations, and Variances.

[FR Doc. 2018-07546 Filed 4-11-18; 8:45 am]

BILLING CODE 4520-43-P